DEPARTMENT OF THE INTERIOR

National Park Service

[NPS-WASO-NAGPRA-NPS0037002; PPWOCRADN0-PCU00RP14.R50000]

Notice of Inventory Completion: University of Florida, Florida Museum of Natural History, Gainesville, FL, and Florida Department of State, Tallahassee, FL

AGENCY: National Park Service, Interior.

ACTION: Notice.

SUMMARY: In accordance with the Native American Graves Protection and Repatriation Act (NAGPRA), the University of Florida, Florida Museum of Natural History (FLMNH) and the Florida Department of State have completed an inventory of human remains and associated funerary objects and have determined that there is a cultural affiliation between the human remains and associated funerary objects and Indian Tribes or Native Hawaiian organizations in this notice. The human remains and associated funerary objects were removed from Okaloosa County, FL.

DATES: Repatriation of the human remains and associated funerary objects in this notice may occur on or after January 4, 2024.

ADDRESSES: Catherine Smith, University of Florida, Florida Museum of Natural History, 1659 Museum Road, Gainesville, FL 32611, telephone (352) 273-1921, email smithcatherine@floridamuseum.ufl.edu (primary contact for this notice) and Kathryn Miyar, Florida Department of State, 1001 DeSoto Park Drive. Tallahassee, FL 32301, telephone (850) 245-6319, email kathryn.miyar@dos.myflorida.com.

SUPPLEMENTARY INFORMATION: This notice is published as part of the National Park Service's administrative responsibilities under NAGPRA. The determinations in this notice are the sole responsibility of FLMNH and the Florida Department of State. The National Park Service is not responsible for the determinations in this notice. Additional information on the determinations in this notice, including the results of consultation, can be found in the inventory or related records held by FLMNH and the Florida Department of State.

Description

Both FLMNH and the Florida Department of State are jointly submitting this notice to facilitate the rejoining of split ancestral remains and associated funerary objects. Human remains representing, at minimum, 25 individuals (held across both institutions) were removed from Okaloosa County, FL. During the 1970s, several excavations were undertaken by the Fort Walton Indian Temple Mound Museum staff and volunteers. During 1971 and1972, the Fort Walton Indian Temple Mound Museum volunteers intermittently excavated portions of the mound thought to have held structures (based on post hole remnants). In 1973, a 5'x5' unit and two trenches were excavated by Lazarus and Fornaro, who supervised Fort Walton Indian Temple Mound Museum staff and volunteers. In 1975-1976, Thanz supervised Fort Walton Indian Temple Mound Museum staff and volunteers excavating units using a coordinate system. FLMNH holds the remains of 22 ancestors listed in this notice (Accession ANTH 81-24) and the Florida Department of State holds the remains of three ancestors (Accession 1992.123). The 3,790 associated funerary items (held across both institutions) include ceramics, a shell bead, charred plant remains, faunal remains (bones and shells), and lithics. FLMNH holds 3,711 associated funerary objects listed in this notice (Accession ANTH 2003-4) and the Florida Department of State holds 79 associated funerary objects (Accession 1992.123).

Cultural Affiliation

The human remains and associated funerary objects in this notice are connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, and historical.

Determinations

Pursuant to NAGPRA and its implementing regulations, and after consultation with the appropriate Indian Tribes and Native Hawaiian organizations, FLMNH and the Florida Department of State have determined that:

• The human remains described in this notice represent the physical remains of 25 individuals of Native American ancestry.

• The 3,790 items described in this notice are reasonably believed to have been placed with or near individual human remains at the time of death or later as part of the death rite or ceremony.

• There is a relationship of shared group identity that can be reasonably traced between the human remains and associated funerary objects described in this notice and the Mississippi Band of Choctaw Indians; Seminole Tribe of Florida; and The Choctaw Nation of Oklahoma.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after January 4, 2024. If competing requests for repatriation are received, FLMNH and the Florida Department of State must determine the most appropriate requestor prior to repatriation. Requests for joint repatriation of the human remains and associated funerary objects are considered a single request and not competing requests. FLMNH and the Florida Department of State are responsible for sending a copy of this notice to the Indian Tribes identified in this notice.

Authority: Native American Graves Protection and Repatriation Act, 25 U.S.C. 3003, and the implementing regulations, 43 CFR 10.9, 10.10, and 10.14.

Dated: November 28, 2023.
Melanie O'Brien,
Manager, National NAGPRA Program.

[FR Doc. 2023-26608 Filed 12-4-23; 8:45 am]

BILLING CODE 4312-52-P